DEPARTMENT OF AGRICULTURE

Agricultural Marketing Service

[Docket No. AMS-LS-07-0131]

United States Standards for Livestock and Meat Marketing Claims, Naturally Raised Claim for Livestock and the Meat and Meat Products Derived From Such Livestock

AGENCY: Agricultural Marketing Service, USDA.

ACTION: Reopening and Extension of the Comment Period.

SUMMARY: The Agricultural Marketing Service (AMS) is reopening and extending the comment period for the proposed voluntary standard for a naturally raised marketing claim that was published in the Federal Register on November 28, 2007 (72 FR 67266).

DATES: Comments must be received by March 3, 2008 to be assured of consideration.

ADDRESSES: Interested persons are invited to submit written comments concerning this proposal. Comments should be submitted through the Web site at http://www.regulations.gov. Send written comments to: Naturally Raised Marketing Claim, Room 2607-S, AMS, USDA, 1400 Independence Avenue, SW., Washington, DC 20250-0254, or by facsimile to (202) 720-1112. All comments should reference the docket number. Comments received will be posted on the Web site at http://www.regulations.gov and will be made available for public inspection at the above physical address during regular business hours.

FOR FURTHER INFORMATION CONTACT: Martin E. O'Connor, Chief, Standards, Analysis, and Technology Branch, Livestock and Seed Program, AMS, USDA, Room 2607-S, 1400 Independence Avenue, SW., Washington, DC 20250-0254; facsimile: (202) 720-1112; telephone: (202) 720-4486; or e-mail: Martin.OConnor@usda.gov. Additional information can also be found by accessing the Web site at http://www.ams.usda.gov/lsg/stand/naturalclaim.htm.

SUPPLEMENTARY INFORMATION: Section 203(c) of the Agricultural Marketing Act of 1946, as amended (7 U.S.C. 1622), directs and authorizes the Secretary of Agriculture “to develop and improve standards of quality, condition, quantity, grade, and packaging, and recommend and demonstrate such standards in order to encourage uniformity and consistency in commercial practices.” USDA is committed to carrying out this authority in a manner that facilitates the marketing of agricultural products. One way of achieving this objective is through the development and maintenance of voluntary standards by AMS. AMS is seeking comments on a proposed voluntary U.S. Standard for Livestock and Meat Marketing Claims, Naturally Raised Claim for Livestock and the Meat and Meat Products Derived from such Livestock, in accordance with procedures that are contained in Title 7 Part 36 of the Code of Federal Regulations.

On November 28, 2007, AMS published a notice (72 FR 67266) with request for comments for the proposed voluntary standard for a naturally raised marketing claim. The comment period closed on January 28, 2008. However, a number of interested producers, processors, and marketers have requested additional time to evaluate the full impact of the requirements of the proposed standard in order to provide more meaningful and substantive comments. Therefore, AMS has determined that there is sufficient justification to reopen and extend the comment period.

Authority: 7 U.S.C. 1621-1627.

Dated: January 25, 2008.
Kenneth C. Clayton,
Acting Administrator, Agricultural Marketing Service.

[FR Doc. E8-1722 Filed 1-30-08; 8:45 am]

BILLING CODE 3410-02-P